OFFICE OF PERSONNEL MANAGEMENT

5 CFR Part 531

[Docket ID: OPM-2023-0009]

RIN 3206-AO58

General Schedule Locality Pay Areas

Correction

In Rule document 2023-25153, appearing on pages 78631 through 78636, in the issue of Thursday, November 16, 2023, make the following correction:

§ 531.603 Locality pay areas. [Corrected]

On page 78636, in the first column, paragraph “(48)” is corrected to read as set forth below.

(48) Sacramento-Roseville, CA-NV—consisting of the Sacramento-Roseville, CA CSA and also including Alpine County, CA, Amador County, CA, Butte County, CA, Colusa County, CA, Sierra County, CA, Carson City, NV, and Douglas County, NV;

[FR Doc. C1-2023-25153 Filed 12-6-23; 8:45 am]

BILLING CODE 0099-01-D